DEPARTMENT OF AGRICULTURE

Forest Service

Forest Service Handbook (FSH) 5509.11, Chapter Twenty, Section 21; Title Claims, Sales, and Grants Handbook; Sales

AGENCY: Forest Service, USDA.

ACTION: Notice of availability for public comment.

SUMMARY: Following 2018 Farm Bill amendments to the Small Tracts Act (STA), the U.S. Forest Service is revising directives implementing the STA. These revisions are necessary to bring the Agency into alignment with the 2018 Farm Bill, specifically regarding the valuation of land the Agency sells or exchanges to keep pace with increasing market value, as well as expanding the categories of land that can be sold or exchanged.

DATES: Comments must be received in writing by July 6, 2021.

ADDRESSES: Comments may be submitted electronically to https://cara.ecosystem-management.org/Public/CommentInput?project=ORMS-2755. Written comments may be mailed to Betty M. Jewett, Lands Program Specialist, 201 14th Street SW, Washington, DC 20024. All timely received comments, including names and addresses, will be placed in the record and will be available for public inspection and copying. The public may inspect comments received at https://cara.ecosystem-management.org/Public/ReadingRoom?project=ORMS-2755.

FOR FURTHER INFORMATION CONTACT: Betty M. Jewett at 770.540.4800 or by electronic mail to betty.jewett@usda.gov. Individuals using telecommunication devices for the hearing-impaired may call the Federal Information Relay Service at 800-877-8339 between 8 a.m. and 8 p.m. Eastern Daylight Time, Monday through Friday.

SUPPLEMENTARY INFORMATION: The Forest Service is revising its regulations and directive implementing the Small Tracts Act due to amendments made to it by the 2018 Farm Bill. The amendments update the value of lands the Agency can sell or exchange to keep up with increasing land values. This directive also expand the categories of lands that can be sold or exchanged under the STA. Proceeds generated from eligible sales made under the Small Tracts Act may be deposited in a Sisk Act account, allowing the Agency to acquire lands that improve the health and productivity of National Forests while simultaneously disposing small, problematic parcels. The following are the specific changes that are covered throughout Forest Service Handbook (FSH) 5509.11, Chapter 20, section 21:

• The land value threshold for eligible parcels will increase to $500,000 from $150,000.

• A category will be added for cemeteries, landfills, and sewer treatment plants authorized under a special use authorization or other authorization by the Secretary of Agriculture.

• A category will be added for parcels 10 acres or less encroached upon by permanent, habitable improvements where there is no evidence the encroachment is intentional or negligent.

• A category will be added for parcels 40 acres or less that are physically isolated, inaccessible, or lack National Forest characteristics.

The proposed directives update Forest Service Handbook 5509.11, Chapter 20, section 21. This directive set forth policy, responsibilities, and direction for several aspects of management and implement the Agency's goal of providing more current direction.

The Forest Service has determined that the changes to the handbook formulate standards, criterion, or guidelines applicable to a Forest Service program and are therefore publishing the proposed handbook for public comment in accordance with 36 CFR part 216. The Forest Service is seeking public comment on the proposed directive, including the sufficiency of the proposed directive in meeting its stated objectives, ways to enhance the utility and clarity of information within the direction, or ways to streamline processes outlined.

Forest Service NEPA procedures exclude from documentation in an environmental assessment or impact statement “rules, regulations, or policies to establish Service-wide administrative procedures, program processes, or instructions.” 36 CFR 220.6(d)(2). The Agency's conclusion is that this proposed directive falls within this category of actions and that no extraordinary circumstances exist as currently defined that require preparation of an environmental assessment or an environmental impact statement.

After the public comment period closes, the Forest Service will consider timely comments that are within the scope of the proposed directive in the development of the final directive. A notice of the final directive, including a response to timely comments, will be posted on the Forest Service's web page at https://www.fs.fed.us/about-agency/regulations-policies/comment-on-directives.

Dated: May 24, 2021.
Tina Johna Terrell,
Acting Deputy Chief, National Forest System.

[FR Doc. 2021-11731 Filed 6-3-21; 8:45 am]

BILLING CODE 3411-15-P